DEPARTMENT OF JUSTICE

Notice of Lodging of Proposed Consent Decree Under the Comprehensive Environmental Response, Compensation and Liability Act

On April 2, 2024, the Department of Justice lodged a proposed consent decree with the United States District Court for the Southern District of Texas, Houston Division, in the lawsuit entitled United States and the State of Texas v. Intercontinental Terminals Co., LLC. Civil Action No. 4:24-cv-01207.

The United States and State of Texas asserted claims in this case under section 107 of the Comprehensive Environmental Response, Compensation, and Liability Act (“CERCLA”), 42 U.S.C. 9607, seeking to recover natural resource damages (“NRD”) in response to releases of hundreds of thousands of barrels of a mixture of petrochemical products and firefighting foam and water into the environment as a result of a fire that ignited on March 17, 2019 at a terminal facility owned and operated by Intercontinental Terminals Co., LLC (“ITC”) located in Deer Park, Harris County, Texas. Hazardous substances were released from ITC's facility into the air and surrounding waterways, including Tucker Bayou, Buffalo Bayou, and the Houston Ship Channel. Natural resources were injured, and recreational use lost, as a result of these releases. The proposed Consent Decree resolves the Trustees' claims against ITC.

Under CERCLA, federal and state natural resource trustees have authority to seek compensation for natural resources harmed by hazardous substances released into the environment as a result of the March 2019 fire at ITC's facility. The natural resource trustees here include the U.S. Department of the Interior, acting through the U.S. Fish and Wildlife Service, the National Oceanic and Atmospheric Administration, and the State of Texas on behalf of Texas Commission on Environmental Quality, the Texas Parks and Wildlife Department and Texas General Land Office (the “Trustees”).

Under the proposed Consent Decree, ITC agrees to pay $6,645,000 to the DOI Natural Resource Damage Assessment and Restoration Fund to be used to restore, replace, rehabilitate, or acquire the equivalent of those resources injured by the releases, as well as to compensate for lost recreational services. The money will also be used for the Trustees' restoration planning costs and to reimburse the Trustees' past assessment costs. The United States and the State will grant a covenant not to sue or to take administrative action against ITC for NRD pursuant to section 107(a) of CERCLA, 42 U.S.C. 9607(a), section 1002(b)(2)(A) of the Oil Pollution Act, 33 U.S.C. 2702(b)(2)(A), section 311 of the Clean Water Act, 33 U.S.C. 1321, and applicable state law.

The publication of this notice opens a period for public comment on the proposed Consent Decree. Comments on the proposed Consent Decree should be addressed to the Assistant Attorney General, Environment and Natural Resources Division, and should refer to United States and the State of Texas v. Intercontinental Terminals Company, LLC D.J. Ref. 90-11-3-12213. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed in whole or in part on the public court docket without notice to the commenter.

During the public comment period, the Consent Decree may be examined and downloaded at this Justice Department website: https://www.justice.gov/enrd/consent-decrees. If you require assistance accessing the consent decree, you may request assistance by email or by mail to the addresses provided above for submitting comments.

Thomas Carroll,
Assistant Section Chief, Environmental Enforcement Section, Environment and Natural Resources Division.

[FR Doc. 2024-07337 Filed 4-5-24; 8:45 am]

BILLING CODE 4410-15-P